DEPARTMENT OF LABOR

Employment and Training Administration

[TA-W-53,496]

Pass & Seymour/Legard, San Antonio, TX; Notice of Termination of Investigation

Pursuant to section 221 of the Trade Act of 1974, as amended, an investigation was initiated on November 10, 2003 in response to a petition filed by a company official on behalf of workers at Pass & Seymour/Legard, San Antonio, Texas.

The petitioner has requested that the petition be withdrawn. Consequently, the investigation has been terminated.

Signed at Washington, DC this 26th day of November, 2003.
Elliott S. Kushner,
Certifying Officer, Division of Trade Adjustment Assistance.

[FR Doc. 03-32275 Filed 12-31-03; 8:45 am]

BILLING CODE 4510-30-P